DEPARTMENT OF HEALTH AND HUMAN SERVICES

Centers for Disease Control and Prevention

[Docket No. CDC-2020-0066; NIOSH-232]

Board of Scientific Counselors, National Institute for Occupational Safety and Health, National Firefighter Registry Subcommittee Meeting

AGENCY: Centers for Disease Control and Prevention (CDC), Department of Health and Human Services (HHS).

ACTION: Notice of meeting and request for comment.

SUMMARY: In accordance with the Federal Advisory Committee Act, the CDC announces the following meeting of the National Institute for Occupational Safety and Health (BSC, NIOSH) for National Firefighter Registry Subcommittee. This meeting is open to the public via webcast and by teleconference. If you wish to attend by webcast or teleconference, please register at the NIOSH website (https://www.cdc.gov/niosh/bsc/nfrs/registration.html) or call (513-841-4203) at least five business days in advance of the meeting.

DATES: The meeting will be held on July 14, 2020, 1:00 p.m. to 5:00 p.m., EDT.

Written comments received by July 7, 2020 will be provided to the Subcommittee prior to the meeting. Docket number CDC-2020-0066; NIOSH-232 will close July 24, 2020 and will be considered by the National Firefighter Registry Program when developing the final protocol.

ADDRESSES: You may submit comments, identified by Docket No. CDC-2020-0066; NIOSH-232 by any of the following methods. CDC does not accept comments by email.

• Federal eRulemaking Portal: https://www.regulations.gov. Follow the instructions for submitting comments.

• Mail: National Institute for Occupational Safety and Health, NIOSH Docket Office, Docket number CDC-2020-0066; NIOSH-232, 1090 Tusculum Avenue, MS C-34, Cincinnati, Ohio 45226.

Instructions: All submissions received must include the Agency name and Docket number [CDC-2020-0066; NIOSH-232]. Written comments received by July 7, 2020 will be provided to the Subcommittee prior to the meeting. Docket number CDC-2020-0066; NIOSH-232 will close July 24, 2020 and will be considered by the National Firefighter Registry Program when developing the final protocol.

All information received in response to this notice must include the agency name and docket number [CDC-2020-0066; NIOSH-232]. All relevant comments received in conformance with the https://www.regulations.gov suitability policy will be posted without change to https://www.regulations.gov, including any personal information provided. For access to the docket to read background documents or comments received, go to https://www.regulations.gov.

Meeting Information: The web conference access is https://odniosh.adobeconnect.com/nfrs/ and the teleconference access is (855) 644-0229, and the participant pass code is 9777483.

FOR FURTHER INFORMATION CONTACT: Paul J. Middendorf, Ph.D., Executive Secretary, National Firefighter Registry Subcommittee of the NIOSH Board of Scientific Counselors, NIOSH, CDC, 2400 Century Parkway NE, V24-4, Atlanta, GA 30345, telephone (404) 498-6439, or email at pmiddendorf@cdc.gov.

SUPPLEMENTARY INFORMATION: Adobe Connect webcast will be available at https://odniosh.adobeconnect.com/nfrs/ for participants wanting to connect remotely, and teleconference is available toll-free at (855) 644-0229 with participant pass code 9777483. This meeting is open to the public, limited only by the number of Adobe license seats available, which is 100. The public is welcome to participate during the oral public comment period, 1:30 p.m. to 1:45 p.m. EDT, July 14, 2020. Please note that the oral public comment period ends at the time indicated above.

Comments should be specifically related to the National Firefighter Registry protocol draft report which can be found in docket number CDC-2020-0066; NIOSH-232 or by visiting the subcommittee website: https://www.cdc.gov/niosh/bsc/nfrs/. Each commenter will be provided up to five minutes for comment. A limited number of time slots are available and will be assigned on a first come-first served basis. Members of the public who wish to address the NIOSH BSC Subcommittee are requested to contact the Executive Secretary for scheduling purposes (see contact information above). Written comments will also be accepted from those unable to attend the public session per the instructions provided in the address section above. Written comments received in advance of the meeting will be included in the official record of the meeting.

Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors Subcommittee for the National Firefighter Registry (the Subcommittee) provides guidance to the Director, National Institute for Occupational Safety and Health on matters related to the National Firefighter Registry. Specifically, the Subcommittee provides guidance and professional input to the Board of Scientific Counselors (BSC) that will assist the BSC in advising the Director about NIOSH's efforts to establish and operate the National Firefighter Registry. The Subcommittee advises the Board of Scientific Counselors (BSC) on the following issues pertaining to the “required strategy” as mandated by the Firefighter Cancer Registry Act of 2018 (the Act): (1) Increase awareness of the National Firefighter Registry and encouraging participation among all groups of firefighters, (2) consider data collection needs, (3) consider data storage and electronic access of health information, (4) in consultation with subject matter experts develop a method for estimating the number and type of fire incidents attended by a firefighter. Additional responsibilities of the Subcommittee are to provide guidance to the BSC regarding inclusion and the maintenance of data on firefighters as required by the Act.

Matters to be Considered: The agenda for the meeting addresses issues related to: The National Firefighter Registry Subcommittee draft report pertaining to the protocol including the questionnaire, enrollment process, and data sharing. The subcommittee will review the draft report, suggest and discuss changes, and vote on the draft report. Agenda items are subject to change as priorities dictate. An agenda is also posted on the NIOSH website https://www.cdc.gov/niosh/bsc/nfrs/.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-12267 Filed 6-5-20; 8:45 am]

BILLING CODE 4163-18-P